COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete service(s) from the Procurement List that were furnished by nonprofit agencies employing persons who are blind or have other severe disabilities.

DATES: Comments must be received on or before: November 24, 2024.

ADDRESSES: Committee for Purchase From People Who Are Blind or Severely Disabled, 355 E Street SW, Suite 325, Washington, DC 20024.

FOR FURTHER INFORMATION CONTACT: For further information or to submit comments contact: Michael R. Jurkowski, telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following service(s) are proposed for deletion from the Procurement List:

Service(s)

Service Type: Janitorial/Custodial

Mandatory for: USDA, ARS, Avian Disease & Oncology Research Laboratory, East Lansing, MI

Authorized Source of Supply: Peckham Vocational Industries, Inc., Lansing, MI

Contracting Activity: AGRICULTURAL RESEARCH SERVICE, USDA ARS

Service Type: Janitorial/Custodial Service

Mandatory for: GSA PBS Region 4, T. G. Abernethy Federal Building, Courthouse and Post Office, Aberdeen, MS

Authorized Source of Supply: Alabama Goodwill Industries, Inc., Birmingham, AL

Contracting Activity: PUBLIC BUILDINGS SERVICE, ACQUISITION DIVISION/SERVICES BRANCH

Service Type: Grounds Maintenance

Mandatory for: US Coast Guard, Townsends Inlet Recreational Facility, Sea Isle, NJ

Authorized Source of Supply: Fedcap Rehabilitation Services, Inc., New York, NY

Contracting Activity: U.S. COAST GUARD, TRACEN CAPE MAY(00042)

Service Type: Administrative Service

Mandatory for: US Army Corps of Engineers, Huntsville Engineering and Support Center, Huntsville, AL

Authorized Source of Supply: Huntsville Rehabilitation Foundation, Inc., Huntsville, AL

Contracting Activity: DEPT OF THE ARMY, W2V6 USA ENG SPT CTR HUNTSVIL

Michael R. Jurkowski,
Director, Business Operations.

[FR Doc. 2024-24873 Filed 10-24-24; 8:45 am]

BILLING CODE 6353-01-P